SECURITIES AND EXCHANGE COMMISSION

[OMB Control No. 3235-0404]

Submission for OMB Review; Comment Request; Extension: Form F-80—Canadian Securities

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Form F-80 (17 CFR 239.41) is a registration form used by certain large, publicly traded Canadian issuers to register securities to be issued in an exchange offer or in connection with a business combination requiring the vote of shareholders of the participating companies. The information collected is intended to provide U.S. investors in relevant Canadian securities with material information concerning the registered securities and the Canadian foreign private issuer(s) so that investors can make informed voting and investment decisions. The information required by Form F-80 is mandatory, and the information is made publicly available on EDGAR.

We estimate that Form F-80 takes approximately 2 hours per response and is filed by approximately 4 respondents annually. The estimated burden of 2 hours per response is based upon the amount of time necessary to compile the registration statement using the existing Canadian disclosure document(s) plus any additional information required by the Commission. We estimate that 100% of the burden is carried by outside professionals retained by the company to assist in the preparation of the form, and thus that 0% of the burden is carried out internally by the company. We estimate a cost of $600 per hour for outside professionals used in connection with public company reporting. Based on our estimates, we calculate a total annual reporting burden of zero hours ((2 hours per response × 0%) × 4 responses annually) and a total annual cost burden of $4,800 ($600 per hour × (2 hours per response × 100%) × 4 responses annually).

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

The public may view and comment on this information collection request at: https://www.reginfo.gov/public/do/PRAViewICR?ref_nbr=202502-3235-013 or email comment to MBX.OMB.OIRA.SEC_desk_officer@omb.eop.gov within 30 days of the day after publication of this notice, by July 25, 2025.

Dated: June 18, 2025.
Sherry R. Haywood,
Assistant Secretary.

[FR Doc. 2025-11511 Filed 6-23-25; 8:45 am]

BILLING CODE 8011-01-P